SMALL BUSINESS ADMINISTRATION

[Disaster Declaration #17836 and #17837; MISSISSIPPI Disaster Number MS-00151]

Presidential Declaration of a Major Disaster for the State of Mississippi

AGENCY: U.S. Small Business Administration.

ACTION: Notice.

SUMMARY: This is a Notice of the Presidential declaration of a major disaster for the State of Mississippi (FEMA-4697-DR), dated 03/26/2023.

Incident: Severe Storms, Straight-line Winds, and Tornadoes.

Incident Period: 03/24/2023 through 03/25/2023.

DATES: Issued on 03/26/2023.

Physical Loan Application Deadline Date: 05/25/2023.

Economic Injury (EIDL) Loan Application Deadline Date: 12/26/2023.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 03/26/2023, applications for disaster loans may be filed at the address listed above or other locally announced locations.

The following areas have been determined to be adversely affected by the disaster:

Primary Counties (Physical Damage and Economic Injury Loans): Carroll, Humphreys, Monroe, Sharkey.

Contiguous Counties (Economic Injury Loans Only):

Mississippi: Attala, Chickasaw, Clay, Grenada, Holmes, Issaquena, Itawamba, Lee, Leflore, Lowndes, Montgomery, Sunflower, Washington, Yazoo.

Alabama: Lamar, Marion.

The Interest Rates are:

| Percent
For Physical Damage:
Homeowners with Credit Available Elsewhere | 4.750
Homeowners without Credit Available Elsewhere | 2.375
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 17836 C and for economic injury is 17837 0.

(Catalog of Federal Domestic Assistance Number 59008)

Francisco Sánchez, Jr.,
Associate Administrator, Office of Disaster Recovery & Resilience.

[FR Doc. 2023-06689 Filed 3-30-23; 8:45 am]

BILLING CODE 8026-09-P